NUCLEAR REGULATORY COMMISSION

10 CFR Part 71

[NRC-2016-0179]

RIN 3150-AJ85

Harmonization of Transportation Safety Requirements With IAEA Standards; Correction

AGENCY: Nuclear Regulatory Commission.

ACTION: Proposed rule and guidance; extension of comment period and correcting supplement.

SUMMARY: The U.S. Nuclear Regulatory Commission (NRC) is correcting a document that was published in the Federal Register on September 12, 2022, regarding changes to maintain a consistent regulatory framework with the U.S. Department of Transportation for the domestic packaging and transportation of radioactive material and to ensure general accord with International Atomic Energy Agency standards. This action is necessary to make corrections in the estimated burden for the information collection and to make other corrections. The public comment period on the amended information collection was originally scheduled to close on November 14, 2022. The NRC has decided to extend the public comment period for the information collection to allow more time for members of the public to develop and submit their comments; the extended comment period for the information collection now aligns with the end of the general period for public comment.

DATES: The due date of comments on the amended information collection requested in the document published on September 12, 2022 (87 FR 55708) is extended. Comments on the amended information collection should be filed no later than November 28, 2022, at the end of the general comment period. Comments received after this date will be considered, if it is practical to do so, but the Commission is able to ensure consideration only for comments received on or before this date.

ADDRESSES: Please refer to Docket ID NRC-2016-0179 when contacting the NRC about the availability of information for this action. Comment on the proposed information collection using any of the following methods:

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. eastern time (ET), Monday through Friday, except Federal holidays.

• Mail Comments to: FOIA, Library, and Information Collections Branch T6-A10M, U.S. Nuclear Regulatory Commission, Washington, DC 20555-0001, or by email to Infocollects.Resource@nrc.gov.

• Submit to OMB Directly: Written comments and recommendations for the proposed information collection should be sent within 60 days of publication of this document to https://www.reginfo.gov/public/do/PRAMain. Find this particular information collection by selecting “Currently Under Review—Open for Public Comments” or by using the search function.

• Federal Rulemaking Website: Go to https://www.regulations.gov and search for Docket ID NRC-2016-0179. Address questions about NRC dockets to Dawn Forder; telephone: 301-415-3407; email: Dawn.Forder@nrc.gov. For technical questions, contact the individuals listed in the FOR FURTHER INFORMATION CONTACT section of this document.

FOR FURTHER INFORMATION CONTACT: James Firth, 301-415-6628, email: James.Firth@nrc.gov; or Bernard White, 301-415-6577, email: Bernard.White@nrc.gov. Both are staff of the Office of Nuclear Material Safety and Safeguards, U.S. Nuclear Regulatory Commission, Washington, DC 20555-0001.

SUPPLEMENTARY INFORMATION: The NRC may post materials related to this document, including public comments, on the Federal rulemaking website at https://www.regulations.gov under Docket ID NRC-2016-0179. In addition, the Federal rulemaking website allows members of the public to receive alerts when changes or additions occur in a docket folder. To subscribe: (1) navigate to the docket folder (NRC-2016-0179); (2) click the “Subscribe” link; and (3) enter an email address and click on the “Subscribe” link.

The public comment period on the amended information collection was originally scheduled to close on November 14, 2022. The NRC has decided to extend the public comment period on the amended information collection until November 28, 2022, to allow more time for members of the public to submit their comments.

The NRC is announcing the following corrected language to the proposed rule published at 87 FR 55708. On page 87 FR 55721, in the first full paragraph in the first column, “mass limit of 140 g” should read “mass limit of 140 grams”. On page 87 FR 55725, in the first column, the number of respondents and the number of responses for the information collection are provided, “An estimate of the number of annual responses: 7.5. The estimated number of annual respondents: 6.5.” should read “An estimate of the number of annual responses: 100. The estimated number of annual respondents: 99.” On page 87 FR 55725, in the first column, an estimate of the total hourly burden is provided: “An estimate of the total number of hours needed annually to complete the requirement or request: 1,376.7 hours” should read “An estimate of the total number of hours needed annually to complete the requirement or request: 1,377 hours”.

Additionally, on page 87 FR 55728, in the table in section XIX, “Document Availability,” the document “Regulatory Analysis for this proposed rule” (ML22209A039) included several errors. The “Regulatory analysis for this proposed rule” (ML22209A039) document has been reposted to the Federal rulemaking website to correct a publication error, restoring pages 48-55 and pages A-1-A-15 and an unnumbered last page.

Dated: October 17, 2022.
For the Nuclear Regulatory Commission.
Cindy K. Bladey,
Chief, Regulatory Analysis and Rulemaking Support Branch, Division of Rulemaking, Environmental, and Financial Support, Office of Nuclear Material Safety and Safeguards.

[FR Doc. 2022-22866 Filed 10-27-22; 8:45 am]

BILLING CODE 7590-01-P